DEPARTMENT OF THE INTERIOR

Bureau of Land Management

[LLORV00000.L10200000.DD0000; HAG 12-0056]

Notice of Public Meeting, John Day-Snake Resource Advisory Council

AGENCY: Bureau of Land Management, Interior.

ACTION: Notice of Public Meeting.

SUMMARY: Pursuant to the Federal Land Policy and Management Act and the Federal Advisory Committee Act, the U.S. Department of the Interior, Bureau of Land Management (BLM) John Day-Snake Resource Advisory Council (RAC) will meet as indicated below:

DATES: The meeting will be held on February 16, 2012.

ADDRESS: The meeting will be held at Umatilla National Forest Supervisor Office located at 2517 SW. Hailey, Pendleton, Oregon, on February 16, 2012.

FOR FURTHER INFORMATION CONTACT: Mark Wilkening, Public Affairs Specialist, 100 Oregon Street, Vale, Oregon 97918, (541) 473-6218 or email mwilkeni@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The February 16, 2012, meeting will be held from 8 a.m. to 4:30 p.m. Pacific Standard Time (PST) at the Umatilla National Forest Supervisor Office in Pendleton Oregon. Topics may include: Updates on the BLM Baker Draft Resource Management Plan, update on the BLM John Day Final Resource Management Plan, updates by Federal managers on litigation, energy projects, and other issues affecting their districts/units and other matters as may reasonably come before the RACs. All RAC meetings are open to the public; time is set aside for oral comments at 1 p.m. on February 16, 2012. Those who verbally address the RAC are asked to provide a written statement of their presentation. Unless otherwise approved by the RAC Chair, the public comment period will last no longer than 15 minutes; each speaker may address the RAC for a maximum of five minutes. If reasonable accommodation is required, please contact the BLM Vale District Office at (541) 473-6218 as soon as possible. Before including your address, phone number, email address, or other personal identifying information in your comment, please be aware that your entire comment—including your personal identifying information—may be made publicly available at any time. While you can ask us in your comment to withhold your personal identifying information from public review, we cannot guarantee that we will be able to do so.

Donald N. Gonzalez,
BLM Vale District Manager.

[FR Doc. 2011-32395 Filed 12-16-11; 8:45 am]

BILLING CODE 4310-33-P